ENVIRONMENTAL PROTECTION AGENCY

[FRL10020-16-Region 3]

Clean Air Act Operating Permit Program; Petition To Object to the Title V Permit for Northampton Generating Co., LP; Pennsylvania

AGENCY: Environmental Protection Agency (EPA).

ACTION: Notice of final action.

SUMMARY: Pursuant to the Clean Air Act (CAA), the Environmental Protection Agency (EPA) Administrator signed an Order, dated July 15, 2020, partially granting and partially denying a petition to object to a state operating permit issued by the Pennsylvania Department of Environment Protection (PADEP). The Order responds to a January 8, 2020 petition, relating to Northampton Generating Co., LP's Northampton Plant (Northampton), an electric utility generation facility located in Northampton County, Pennsylvania. The petition was submitted by the Sierra Club and the Clean Air Council. This Order constitutes final action on that petition requesting that the Administrator object to the issuance of the proposed CAA title V permit.

DATES: February 12, 2021.

ADDRESSES: Copies of the final Order, the petition, and all pertinent information relating thereto can be requested by electronic mail to the address set forth below in the FOR FURTHER INFORMATION CONTACT section. The final Order is also available electronically at the following website: https://www.epa.gov/title-v-operating-permits/title-v-petition-database.

FOR FURTHER INFORMATION CONTACT: Emily Bertram, Permits Branch, Air and Radiation Division, EPA Region III, (215) 814-5273, bertram.emily@epa.gov.

SUPPLEMENTARY INFORMATION: The CAA affords EPA a 45-day period to review and object to, as appropriate, operating permits proposed by state permitting authorities. Section 505(b)(2) of the CAA authorizes any person to petition the EPA Administrator within 60 days after the expiration of this review period to object to a state operating permit if EPA has not done so. Petitions must be based only on objections raised with reasonable specificity during the public comment period, unless the petitioner demonstrates that it was impracticable to raise these issues during the comment period or that the grounds for objection or other issue arose after the comment period.

In the Northampton petition (numbered III-2020-1), the Petitioners sought EPA objection on the following issues: (Claim I) the Northampton permit's monitoring regime did not ensure that emissions restrictions are met; (Claim II) PADEP erred in allowing Northampton to modify its permit using the less stringent minor modification process. PADEP issued the final Northampton operating permit (permit No. 48-00021) on December 16, 2019.

The Order explains the reasons behind EPA's decision to partially grant and partially deny the petition for objection. Pursuant to section 505(b)(2) of the CAA, the Petitioner may seek judicial review of those portions of the Northampton petition which EPA denied in the United States Court of Appeals for the appropriate circuit. Any petition for review shall be filed within 60 days of this notice in accordance with the requirements of section 307 of the CAA.

Dated: February 8, 2021.
Cristina Fernandez,
Director, Air and Radiation Division, Region III.

[FR Doc. 2021-02963 Filed 2-11-21; 8:45 am]

BILLING CODE 6560-50-P